DEPARTMENT OF LABOR

Employment and Training Administration

[NAFTA-05943]

F.H. Stoltze Land and Lumber Company, Stoltze Aspen Mills Division, Siguird, UT; Notice of Negative Determination Regarding Application for Reconsideration

By application of July 1, 2002, the petitioner requested administrative reconsideration of the Department's negative determination regarding eligibility for workers and former workers of the subject firm to apply for North American Free Trade Agreement-Transitional Adjustment Assistance (NAFTA-TAA). The NAFTA-TAA denial notice applicable to workers of F.H. Stoltze Land and Lumber Company, Stoltze Aspen Mills Division, Siguird, Utah was signed on June 21, 2002 and will soon be published in the Federal Register.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The NAFTA-TAA petition, filed on behalf of workers at F.H. Stoltze Land and Lumber Company, Stoltze Aspen Mills Division, Siguird, Utah was denied because criteria (3) and (4) of the group eligibility requirements in paragraph (a)(1) of Section 250 of the Trade Act, as amended, were not met. The “contributed importantly” test is generally demonstrated through a survey of the workers' firm's customers. The survey revealed that none of the respondents increased their imports from Canada or Mexico of products like or directly competitive with what the subject plant produced during the relevant period. The subject firm did not import from Canada or Mexico products like or directly competitive with what the subject plant produced, nor was the subject plant's production shifted from the workers' firm to Mexico or Canada. The workers were primarily engaged in activities related to the production of landscape timber.

The petitioner appears to be alleging that the subject firm's customers switched purchases from the subject firm in favor of buying from other domestic competitors that had an apparent competitive edge, since the competitors could purchase landscape timber directly from Canada at a lower price than the subject plant could produce landscape timber.

The Department, as already indicated, examines the impact of imports from Canada and Mexico by a survey of the subject firm's major declining customers to examine if the “contributed importantly” test is met. The survey conducted during the initial investigation revealed that none of the respondents increased their imports of landscape timbers from Canada or Mexico, while decreasing their purchases from the subject firm during the relevant period.

The survey also examines if the products purchased by the customers from other domestic sources were imported from Canada or Mexico. The survey revealed that none of the customers reported purchasing imported landscape timbers from other domestic sources.

Conclusion

After review of the application and investigative findings, I conclude that there has been no error or misinterpretation of the law or of the facts which would justify reconsideration of the Department of Labor's prior decisions. Accordingly, the application is denied.

Signed at Washington, DC, this 25th day of July 2002.
Edward A. Tomchick,
Director, Division of Trade Adjustment Assistance.

[FR Doc. 02-19971 Filed 8-6-02; 8:45 am]

BILLING CODE 4510-30-P